DEPARTMENT OF HEALTH AND HUMAN SERVICES

Office of Community Services

[Program Announcement No. OCS 2002-13]

Fiscal Year 2002 Training, Technical Assistance and Capacity-Building Program; Availability of Funds and Request for Applications, Spring, 2002 Announcement

AGENCY: Office of Community Services (OCS), Administration for Children and Families (ACF), Department of Health and Human Services (DHHS).

ACTION: Request for applications under the Office of Community Services' Training, Technical Assistance and Capacity-Building Program.

SUMMARY: The Office of Community Services announces that competing applications will be accepted for new grants pursuant to the Secretary's authority under Section 674(b) of the Community Services Block Grant (CSBG) Act, as amended, by the Community Opportunities, Accountability, and Training, and Educational Services (Coats) Human Services Reauthorization Act of 1998, (Pub. L. 105-285). This program announcement consists of seven parts. Part A provides information on the legislative authority and defines terms used in the program announcement. Part B describes the purposes of the program, the priority areas that will be considered for funding, and which organizations are eligible to apply in each priority area. Part C provides details on application prerequisites, anticipated amounts of funds available in each priority area, estimated number of grants to be awarded, and other grant-related information. Part D provides information on application procedures including the availability of forms, where to submit an application, criteria for initial screening of applications, and project evaluation criteria. Part E provides guidance on the content of an application package. Part F provides instructions for completing an application. Part G details post-award requirements.

DATES: The closing date for submission of applications is August 26, 2002. The closing date for receipt of applications is 4:30 p.m. Eastern time zone. Applications received after 4:30 p.m. on the closing date will be classified as late. Postmarks and other similar documents do not establish receipt of an application. Detailed application submission instructions, including addresses where applications must be sent are found in Part D of this program announcement.

FOR FURTHER INFORMATION CONTACT: Margaret Washnitzer, Director, Division of State Assistance, Office of Community Services, Administration for Children and Families, 370 L'Enfant Promenade, SW, Washington, DC 20447, (202) 401-9343. This program announcement, along with the necessary applications forms, is accessible on the OCS web site for reading or downloading at: http://www.acf.dhhs.gov/programs/ocsAdditional copies of this program announcement can be obtained by calling (202) 401-9343.

The Catalog of Federal Domestic Assistance number is “93.570.” This Program announcement title is “Training, Technical Assistance, and Capacity-Building Program.”

Part A—Preamble

1. Legislative Authority

Sections 674(b)(2) and 678A(a)(1)(A) of the Community Services Block Grant (CSBG) Act of 1981, (Pub. L. 97-35) as amended by the Coats Human Services Reauthorization Act of 1998, (Pub. L. 105-285) authorizes the Secretary of Health and Human Services to utilize a percentage of appropriated funds for: Training, technical assistance, planning, evaluation, performance measurement, monitoring, to assist States in carrying out corrective actions and to correct programmatic deficiencies of eligible entities, and for reporting and data collection activities related to programs or projects carried out under the CSBG Act. The Secretary may carry out these activities through grants, contracts, or cooperative agreements. To address program quality in financial management practices, management information and reporting systems, measurement of program results, and to ensure responsiveness to identified local needs, the Secretary is required to distribute funds directly to eligible entities, or statewide or local organizations (including faith-based organizations) or associations with demonstrated expertise in providing training to individuals and organizations on methods of effectively addressing the needs of low-income families and communities. The Secretary may carry out the remaining activities through appropriate entities.

The process for determining the technical assistance, training and capacity-building activities to be carried out must (a) ensure that the needs of eligible entities and programs relating to improving program quality, including financial management practices, are addressed to the maximum extent feasible; and (b) incorporate mechanisms to ensure responsiveness to local needs, including an on-going procedure for obtaining input from State and national networks of eligible entities. Thus, the CSBG Monitoring and Assessment Task Force (MATF) continues to focus on implementation of the Results-Oriented Management and Accountability (ROMA) system to address the challenges and unmet needs of States and Community Action Agencies and to increase program quality and management within the Community Services Network. The Task Force has taken a comprehensive approach to monitoring, including establishing national goals and outcome measures and target dates for nation-wide implementation; reviewing data needs relevant to these outcome measures; and assessing technical assistance and training provided toward capacity building within the Community Services Network.

2. Definitions of Terms

For purposes of the FY 2001 CSBG Training, Technical Assistance and Capacity-Building Program, the following definitions apply:

At-Risk Agencies refers to CSBG eligible entities in crises. The problem(s) to be addressed must be of a complex or pervasive nature that cannot be adequately addressed through existing local or State resources.

Capacity-building refers to activities that assist Community Action Agencies (CAAs) and other eligible entities to improve or enhance their overall or specific capability to plan, deliver, manage and evaluate programs efficiently and effectively to produce intended results for low-income individuals. This may include upgrading internal financial management or computer systems, establishing new external linkages with other organizations, improving board functioning, adding or refining a program component or replicating techniques or programs piloted in another local community, or making other cost effective improvements.

Community in relationship to broad representation refers to any group of individuals who share common distinguishing characteristics including residency, for example, the “low-income” community, or the “religious” community or the “professional” community. The individual members of these “communities” may or may not reside in a specific neighborhood, county or school district but the local service provider may be implementing programs and strategies that will have a measurable affect on them. Community in this context is viewed within the framework of both community conditions and systems, i.e., (1) public policies, formal written and unstated norms adhered to by the general population; (2) service and support systems, economic opportunity in the labor market and capital stakeholders; (3) civic participation; and (4) an equity as it relates to the economic and social distribution of power.

Community Services Network (CSN) refers to the various organizations involved in planning and implementing programs funded through the Community Services Block Grant or providing training, technical assistance or support to them. The network includes local Community Action Agencies and other eligible entities; State CSBG offices and their national association; CAA State, regional and national associations; and related organizations which collaborate and participate with Community Action Agencies and other eligible entities in their efforts on behalf of low-income people.

Cooperative Agreement is an award instrument of financial assistance where “substantial involvement” is anticipated between the awarding agency and the recipient during the performance of the contemplated project or activity. “Substantial involvement” means that the recipient can expect Federal programmatic collaboration or participation in managing the award. The specific responsibilities of the awarding agency and the recipient will be determined as part of the process of creating the cooperative agreement.

Eligible applicants described in this announcement shall be eligible entities, organizations (including faith-based and community-based) or associations with demonstrated expertise in providing training to individuals and organizations on methods of effectively addressing the needs of low-income families and communities. See description of Eligible Entities below.

Eligible entity means any organization that was officially designated as a Community Action Agency (CAA) or a community action program under section 673(1) of the Community Services Block Grant Act, as amended by the Human Services Amendments of 1994 (Pub. L. 103-252), and meets all the requirements under Sections 673(1)(A)(I), and 676A of the CSBG Act, as amended by the Coats Human Services Reauthorization Act of 1998. All eligible entities are current recipients of Community Services Block Grant funds, including migrant and seasonal farmworker organizations that received CSBG funding in the previous fiscal year. In cases where eligible entity status is unclear, a final determination will be made by OCS/ACF.

Hub is a Department of Health and Human Services designation for multiple regional locations.

Local service providers are local public or private non-profit agencies that receive Community Services Block Grant funds from States to provide services to, or undertake activities on behalf of, low-income people.

Nationwide refers to the scope of the technical assistance, training, data collection, or other capacity-building projects to be undertaken with grant funds. Nationwide projects must provide for the implementation of technical assistance, training or data collection for all or a significant number of States, and the local service providers who administer CSBG funds.

Non-profit Organization refers to an organization, including faith-based, which has “demonstrated experience in providing training to individuals and organizations on methods of effectively addressing the needs of low income families and communities.” Acceptable documentation for eligible non-profit status is limited to: (1) A copy of a current, valid Internal Revenue service tax exemption certificate; (2) a copy of the applicant organization's listing in the Internal Revenue Service's most recent list of tax-exempt organizations described in section 501(c)(3) of the IRS code; and/or (3) Articles of incorporation bearing the seal of the State in which the corporation or association is domiciled.

Outcome Measures are indicators that focus on the direct results one wants to have on customers.

Performance Measurement is a tool used to objectively assess how a program is accomplishing its mission through the delivery of products, services, and activities.

Program technology exchange refers to the process of sharing expert technical and programmatic information, models, strategies and approaches among the various partners in the Community Services Network. This may be done through written case studies, guides, seminars, technical assistance, and other mechanisms.

Regional Networks refers to CAA State Associations within a region.

Results-Oriented Management and Accountability (ROMA) System: ROMA is a system, which provides a framework for focusing on results for local agencies funded by the Community Services Block Grant Program. It involves setting goals and strategies and developing plans and techniques that focus on a result-oriented performance based model for management.

State means all of the 50 States and the District of Columbia. Except where specifically noted, for purposes of this program announcement, it also includes specified Territories.

State CSBG Lead Agency (SCLA) is the lead agency designated by the Governor of the State to develop the State CSBG application and to administer the CSBG Program.

Statewide refers to training and technical assistance activities and other capacity building activities undertaken with grant funds that will have significant impact, i.e. activities should impact at least 50 percent of the eligible entities in a State.

Technical assistance is an activity, generally utilizing the services of an expert (often a peer), aimed at enhancing capacity, improving programs and systems, or solving specific problems. Such services may be provided proactively to improve systems or as an intervention to solve specific problems.

Territories refer to the Commonwealth of Puerto Rico, and American Samoa for the purpose of this announcement.

Training is an educational activity or event which is designed to impart knowledge, understanding, or increase the development of skills. Such training activities may be in the form of assembled events such as workshops, seminars, conferences or programs of self-instructional activities.

Part B—Purposes/Program Priority Areas

The principal purposes of this Training, Technical Assistance and Capacity-Building announcement are to:

Provide an opportunity for national associations that provide training and technical assistance to the Community Services Network to extend and enhance their efforts;

Continue a national effort to build strong administration and financial management capabilities among “at risk” local community action programs through crisis aversion intervention and timely technical assistance; and

Clarify and re-announce a competition for grants to promote partnerships between community action agencies and other service providers, including faith-based organizations, to promote achievement of ROMA client and community goals. An original competition for such grants, announced as Priority Area 4.0, Partnerships Among Suppliers and Providers of Service to Low-Income People, in the January 18, 2002 Federal Register, was suspended. Previous applicants have the opportunity to re-apply under Priority 2.0, Strengthening Partnerships, prior to the closing date of this announcement.

Priority areas of the Office of Community Services' Fiscal Year 2002 Spring Training, Technical Assistance and Capacity-Building Program are as follows:

Priority Area 1.0: National CAA Capacity Building

Sub-Priority Areas:

1.1 National Training (NT)

1.2 Strengthening CAA Capacity to Address Legal Issues (LF)

1.3 National Peer to Peer Assistance (PP)

Priority Area 2.0: Strengthening Partnerships

Sub-Priority Areas:

2.1 Coordination Strategies Between Community Action and Other Service Providers, Including Faith-Based Organizations to Advance ROMA Client Goals 1 and 6 (FP)

2.2 Coordination Strategies Between Community Action And Other Service Providers, Including Faith-Based Organizations to Advance ROMA Community Goals 2 and 3 (FC)

Priority Area 1.0: National CAA Capacity Building

This priority area addresses activities to assist states and eligible entities to acquire skills and further understand legal frameworks for community action. In order to ensure that OCS meets its compliance and technical assistance responsibilities for the CSBG Program and continues its effective partnership with the Community Services Network, grants awarded under Priority 1.1 will be funded in the form of a Cooperative Agreement. A Cooperative agreement is to be renewed annually for a specified number of years.

Sub-Priority 1.1: National Training (NT)

OCS will fund one national organization associated with community action to: (a) Re-engage the public in an on-going dialogue about the conditions of poverty and how community action at the State and local levels may address those conditions more effectively; (b) identify and promote strategies for integrating services within communities to address the multiple conditions of poverty among individuals and families and that help them achieve greater self-sufficiency; (c) identify and promote strategies for improving the supportive conditions of communities in which poor families live; and (d) identify and promote community action strategies for strengthening the family environment in which children are raised through greater engagement of fathers and the promotion of healthy marriages. In addition, OCS will support an effort to identify and reward “excellence” among community action programs that have achieved measurable outcomes in one or more of the areas described above.

Eligible Applicants: National non-profit associations representing Community Action Agencies.

Anticipated Grant Awards: One cooperative agreement (up to $500,000 annually for a maximum of three years).

Sub-Priority 1.2: Strengthening CAA Capacity to Address Legal Issues (LF)

OCS will fund one national non-profit organization to provide legal assistance to local community action agencies to help them improve the lives of clients and the conditions of communities in which they live. Specifically, the successful applicant will provide legal assistance to: (1) Help agencies understand and advocate for the rights of clients in such matters as community governance and/or service eligibility; (2) safeguard the statutory role of agencies as client and community advocates; (3) interpret Federal, State, and local statutes or regulations that pertain to the roles and functions of community action; and (4) assist local agencies involved in litigation or formal administrative actions to obtain appropriate legal counsel.

Eligible Applicants: National, non-profit legal services organizations.

Anticipated Grant Awards: One grant (up to $250,000 annually for a maximum of three years).

Sub-Priority 1.3: National Peer-to-Peer Assistance

The purpose of this Sub-Priority is to continue to strengthen the fiscal and management capacity of eligible entities, especially those that may be considered “at risk.” OCS will fund one project which will provide coordinated, timely, peer-to-peer technical assistance and crisis aversion intervention for CAAs which have identified themselves as experiencing programmatic, administrative, board, and/or fiscal management problems. Peer-to-peer assistance may involve helping an agency resolve adverse program monitoring or audit findings, improve or upgrade financial management systems, prevent losses of funds, avert serious deterioration of the board of directors, or other immediate problems that prevent the agency carrying out their client and community service obligations.

Eligible Applicants: Community action agencies and other eligible entities and state-wide organizations or associations of community action agencies.

Anticipated Grant Awards: One grant (up to $300,000 annually for a maximum of two years).

Priority Area 2.0: Strengthening Partnerships

One of the primary goals of the Administration is to encourage expansion of the number and kinds of organizations devoted to helping communities and low-income citizens achieve their potential. The Administration has developed a “Faith-based and Community-based Initiative” that has, among other things, called for the removal of barriers thereby creating greater participation of faith-based groups in providing community services, and stronger coordination among all service organizations within a community that address the needs of low-income citizens.

OCS recognizes that the Community Services Network (CSN) has a long history of forming partnerships with a variety of service providers at the community level, including faith-based organizations. OCS intends to encourage further expansion of such collaborative efforts to achieve both client and community goals.

OCS intends to fund the development and dissemination of two technical assistance documents intended to help partners in the CSN, at both the State and community levels, learn ways to enhance collaboration of community action with other service providers, including faith-based and community organizations. In addition, OCS will support capacity-building efforts in selected States and/or communities to form new or expanded community action partnerships to achieve specific client or community results, and to disseminate the results of these capacity-building efforts to the Network.

Sub-Priority Area 2.1 Coordination Strategies Between Community Action Agencies and Other Service Providers, Such As Faith-Based, Charitable, and/or Other Community Groups, to Advance ROMA Client Goals 1 and 6 (FP)

OCS will fund up to four technical assistance and capacity building efforts to promote the achievement of client-focused Goals 1 and 6:

Guide to Achieving Client Outcomes Through Community Action Partnerships with Other Service Providers, Such As Faith-Based, Charitable, and/or Other Community Groups—OCS will support the development of a technical assistance guide to help State and local community action agencies learn of ways to establish or expand partnerships with other service providers, such as faith-based, charitable, and/or other community groups, to advance client-focused community action ROMA Goals 1 and 6—client/family self-sufficiency and family strengthening. Specifically, the successful applicant for the grant to develop this guide will describe in its application how it will: (1) Identify State or local partners within the CSN that have a history of successful linkage/collaboration with other providers, such as faith-based, charitable, and/or other community groups working to achieve client-focused outcomes; (2) gather information about the ways these partnerships have been achieved, including formal and informal methods for establishing and maintaining the collaboration, interchange of information, human and financial resources, client referral and case management, and capturing and reporting results; (3) gather insights and analyses from participating community action and other service provider staff on particular strengths and challenges of such collaboration; and (4) develop a guide based on the information described above in a manner useful to the CSN.

Eligible Applicants: State CSBG Lead Agencies, State CAA Associations, local CSBG eligible entities, and non-profit organizations.

Anticipated Grant Awards: One (up to $45,000 for 12 months).

Capacity-Building Grants to Promote Self-sufficiency and/or Family Strengthening Through Collaboration Between Community Action and Other Service Providers, Including Faith-Based and Community Organizations—OCS will fund between one and three States or local community action agencies or other non-profit service providers, to build new or expanded collaborations. Specifically, OCS seeks to encourage innovative work among organizations to promote client/family self-sufficiency and/or to strengthen families. The successful applicant(s) will describe in their application(s): (1) The specific goal(s) they intend to advance through new or expanded partnerships between community action and other service providers, including faith-based and community organizations; (2) the specific and measurable client-focused results the proposed collaboration(s) are intended to achieve and the means by which such results will be measured and reported; (3) the particular contributions each organizational partner will bring to the collaboration, including special skills, and human and financial resources; (4) evidence of previous success, including descriptions of other collaborations, and measurable client improvements that resulted from such collaborative work; and (5) formal letters of agreement and participation among all collaborating organizations with specific descriptions of anticipated contributions of resources and time to the effort.

Eligible Applicants: State CSBG Lead Agencies, State CAA Associations, eligible entities, and non-profit organizations.

Anticipated Grant Awards: Up to three ($20,000 each for 12 months).

Sub-Priority Area 2.2 Coordination Strategies Between Community Action Agencies and Other Service Providers, Such as Faith-Based, Charitable, and/or Other Community Groups To Advance ROMA Community Goals 2 and 3 (FC)

As with sub-priority area 2.1, OCS will fund up to four grants to promote the achievement of community-focused goals (community development and citizen empowerment) through new or expanded collaboration between community action and other service providers, such as faith-based, charitable, and/or other community groups. OCS will solicit applications in two categories:

Guide to Achieving Community Development/Citizen Empowerment Goals Through Collaboration Between Community Action and other Service Providers, Such as Faith-Based, Charitable, and/or Other Community Groups—OCS will support the development of a technical assistance guide to help State and local community action agencies learn of ways to establish or expand partnerships with other service providers to advance community development and citizen empowerment—ROMA national goals 2 and 3.

Specifically, the successful applicant for the grant to develop this guide will describe in its application how it will: (1) Identify State or local partners within the Network that have a history of successful linkage/collaboration with other service providers, such as faith-based, charitable, and/or other community groups, to achieve community outcomes; (2) gather information about the ways these partnerships have been achieved, including formal and informal methods for establishing and maintaining the collaboration, interchange of information, human and financial resources, client referral and case management, and capturing and reporting results; (3) gather insights and analyses from participating community action other service provider staff and clients on particular strengths and challenges of such collaboration; and (4) develop a guide based on the information described above in a manner useful to the CSN.

Eligible Applicants: State CSBG Lead Agencies, State CAA Associations, local eligible entities, and non-profit organizations.

Anticipated Grant Awards: One (up to $45,000 for 12 months).

Capacity-Building Grants to Promote Community Development and/or Citizen Empowerment Through Collaboration Between Community Action and Other Service Providers, Such as Faith-Based, Charitable, and/or Other Community Groups—OCS will fund between one and three States or local community action agencies or other non-profit organizations, to build new or expanded collaborations. Specifically, OCS seeks to encourage innovative work among organizations to promote community development and/or citizen empowerment. The successful applicant(s) will describe in their application(s): (1) The specific goal(s) they intend to advance through new or expanded partnerships between community action other service providers, including faith-based and community organizations; (2) the specific and measurable community and client-focused results the proposed collaboration(s) are intended to achieve and the means by which such results will be measured and reported; (3) the particular contributions each organizational partner will bring to the collaboration, including special skills, and human and financial resources; (4) evidence of previous success, including descriptions of other collaborations, and measurable community and client improvements that resulted from such collaborative work; and (5) formal letters of agreement and participation among all collaborating organizations with specific descriptions of anticipated contributions of resources and time to the effort.

Eligible Applicants: State CSBG Lead Agencies, State CAA Associations, local eligible entities, and non-profit organizations

Anticipated Grant Awards: Up to three ($20,000 each for 12 months).

Part C—Application Prerequisites

1. Eligible Applicants

See individual sub-priority areas in Part B.

2. Forms of Awards

The Office of Community Services intends to support grants for successful applicants under all priority areas with the exception of one cooperative agreement under Sub-Priority Area 1.1. A cooperative agreement is an award instrument of financial assistance when substantial involvement is anticipated between the awarding office and the recipient organization during performance of the contemplated project.

OCS invites qualified entities to submit competing grant applications for the award of cooperative agreements under the FY 2002 Spring Training, Technical Assistance and Capacity Building Program Announcement. The purpose of the cooperative agreement is to assure that there is increased capacity in the community services network to provide national ROMA training, timely, coordinated peer-to-peer-technical assistance to address crises at the local level by CSBG-service providers; and to develop tools to promote collaboration between community action and other community groups, including faith-based/charitable organizations. The duties and responsibilities of the applicant and ACF/OCS in fulfilling the agreement will include the following:

Applicant Role and Responsibilities

1. Develop and implement work plans that will ensure that the services and activities approved in the application address the training and technical assistance needs of the community services network based on the requirement for specified projects.

2. Collaborate with the OCS to finalize the major goals and objectives of the overall project and exchange information on strategies for achieving the goals and objectives.

3. Provide a plan to access the outcomes of the project quarterly.

4. Promote the involvement of OCS in applicant meetings, conferences and initiatives to strengthen the knowledge base of the applicant and the OCS.

OCS Roles and Responsibilities

1. Within 60 days of the award of the grant, OCS will meet with the grantee to coordinate and develop a joint work plan with agreed upon short- and long-term priorities based on the applicant's work plan.

2. Discuss mechanisms of obtaining project status.

3. Through the duration of the cooperative agreement, review and comment on materials prior to their finalization.

4. Promote the involvement of OCS in applicant meetings, conferences and initiatives to strengthen the knowledge base of the applicant and the OCS.

5. Promote the involvement of OCS in applicant meetings, conferences and initiatives to strengthen the knowledge base of the applicant and the OCS.

6. Work collaboratively with the grantee in reviewing and providing feedback to address need for project adjustments and updates.

7. Develop any special conditions related to implementation of such projects.

3. Availability of Funds

The total amount of funds currently available for new grants and one cooperative agreement in FY 2002 under this Program Announcement is $1,260,000. For multi-year projects, continued funding is dependent upon proof of satisfactory performance and the availability of Federal funds. Amounts expected to be available and numbers of grants under each sub-priority area stated in Part B are as follows:

Sub-priority area | Approx. funds available for new projects | Estimated number of new grants
1.1: National Training (NT) | $500,000 | 1
1.2: Strengthen CAA Capacity to Address Legal Issues (LF) | 250,000 | 1
1.3: National Peer-to-Peer Assistance (PP) | 300,000 | 1
2.1 Coordination Strategies Between Community Action and Other Service Providers, Including Faith-Based and Community Organizations, to Advance ROMA Client Goals I and VI (FP) | 105,000 | 4
Guide ($45,000) |  |
Capacity Building ($60,000) |  |
2.2 Coordination Strategies Between Community Action And Other Service Providers, Including Faith-Based Organizations, to Advance ROMA Community Goals II and III (FC) | 105,000 | 4
Guide ($45,000) |  |
Capacity Building ($60,000) |  |
Total | 1,260,000 | Up to 11 Grants

4. Project and Budget Periods

This announcement is inviting applications for project periods up to 3 years. Awards, on a competitive basis, will be for a one-year budget period, although project periods may be for up to 3 years. Applications for continuation grants funded under these awards beyond the one-year budget period but within the 3 year project period will be entertained in subsequent years on a noncompetitive basis, subject to availability of funds, satisfactory progress of the grantee and a determination that continued funding would be in the best interest of the Government.

Note: Please note that specific project periods under this announcement vary depending on the Sub-Priority Area.

5. Project Beneficiaries

The overall intended beneficiaries of the projects to be funded under this Spring FY 2002 CSBG Training, Technical Assistance and Capacity Building Program Announcement are the various “partners” in the Community Services Network. Specific beneficiaries are indicated under each sub-priority area in Part B.

6. Sub-Contracting or Delegating Projects

OCS will not fund any project where the role of the applicant is primarily to serve as a conduit for funds to organizations other than the applicant. This prohibition does not bar the making of subgrants or subcontracting for specific services or activities needed to conduct the project. However, the applicant must have a substantive role in the implementation of the project for which funding is requested.

7. Separate Multiple Applications

Separate applications must be made for each sub-priority area. An applicant will receive only one grant in a sub-priority area. Applicants that receive more than one grant for a common budget and project period must be mindful that salaries and wages claimed for the same persons cannot collectively exceed 100 percent of the total annual salary. The sub-priority area must be clearly identified by title and number.

8. Project Evaluations

Each application must include an assessment or self-evaluation to determine the degree to which the goals and objectives of the project are met, such as client satisfaction surveys, administration of simple before/after tests of knowledge with comparison of scores to show grasp of teaching points, simple measures of the results of service delivery, and others as appropriate. Goal setting and goal measurement should be the framework for evaluation. Goals, to the extent suitable, should be impact-oriented.

Part D—Application Procedures

Availability of Forms

Applications for awards under this Spring FY 2002 CSBG Training, Technical Assistance and Capacity Building Program must be submitted on Standard Forms (SF) 424, 424A, and 424B. Part F and the attachments to this program announcement contain all the instructions and forms required for submission of an application. These forms may be photocopied for use in developing the application.

Part F also contains instructions for the project narrative. The project narrative must be submitted on plain bond paper along with the SF-424 and related forms.

A copy of this program announcement and the required forms are available on the Internet through the OCS web site at: http://www.acf.dhhs.gov/programs/ocs.

If the program announcement cannot be accessed through the OCS web site, it can be obtained by writing or telephoning the office listed under the section entitled FOR FURTHER INFORMATION at the beginning of this program announcement.

2. Deadlines

Refer to the section entitled “Closing Date” at the beginning of this program announcement for the last day on which applications should be submitted.

Mailed applications shall be considered as meeting the announced deadline if they are received on or before deadline time and date. Applicants are responsible for mailing applications well in advance when using all mail services to ensure that the applications are received on or before the deadline time and date. Mailed applications must be sent to: U.S. Department of Health and Human Services, Administration for Children and Families, Office of Grants Management, “Attention: CSBG Training, Technical Assistance, and Capacity Building Program”, 370 L'Enfant Promenade, SW., 4th Floor, Washington, DC 20447.

Applications hand-carried by applicants, applicant couriers, or by overnight/express mail couriers, shall be considered as meeting an announced deadline if they are received on or before the deadline date, between the hours of 8 a.m. and 4:30 p.m. EST, Monday through Friday, excluding Federal holidays, at the: Administration for Children and Families, Office of Grants Management, “Attention: CSBG Training, Technical Assistance and Capacity Building Program”, 901 D Street, SW., 2nd Floor Mailroom, Washington, DC 20024.

ACF cannot accommodate transmission of applications by fax or through other electronic media. Therefore, applications transmitted to ACF electronically will not be accepted regardless of date or time of submission and time of receipt. Applications, once submitted, are considered final and no additional materials will be accepted.

Late applications. Applications that do not meet the criteria above are considered late applications. ACF shall notify each late applicant that its application will not be considered in the current competition.

Extension of deadlines. ACF may extend the deadline for all applicants affected by acts of God such as floods and hurricanes, when there is widespread disruption of the mail service. A determination to extend or waive deadline requirements rest with the Chief Grants Management Officer.

3. Number of Copies Required

One signed original application and two copies should be submitted at the time of initial submission (OMB 0970-0062).

4. Designation of Sub-Priority Area

The first page of the SF-424 must contain in the lower right-hand corner a designation indicating under which sub-priority are funds are being requested. For example, if you are applying for Sub-Priority Area 2.6—Local Capacity Building, you must have a designation of 2.6 in the lower right-hand corner. Without this clear designation, your proposal may not be reviewed correctly.

5. Paperwork Reduction Act of 1995 (Pub. L. 104-13)

Public reporting burden for this collection of information is estimated to average 10 hours per response, including time for reviewing instructions, gathering and maintaining the data needed and reviewing the collection of information.

All information collections within this Program Announcement are approved under OMB Control Number 0970-0062 which expires 12/31/2003.

An agency may not conduct or sponsor and a person is not required to respond to, a collection of information unless it displays a currently valid OMB control number.

6. State Single Point of Contact (SPOC)

This program is covered under Executive Order 12372, “Intergovernmental Review of Federal Programs” and 45 CFR Part 100, “Intergovernmental Review of Department of Health and Human Services Programs and Activities.” Under the Order, States may design their own processes for reviewing and commenting on proposed Federal assistance under covered programs. Note: State/territory participation in the intergovernmental review process does not signify applicant eligibility for financial assistance under a program. A potential applicant must meet the eligibility requirements of the program for which it is applying prior to submitting an application to its SPOC, if applicable, or to ACF.

The following States and Territories have elected to participate under the Executive Order process and have established a Single Point of Contact (SPOC): Arkansas, California, Delaware, District of Columbia, Florida, Georgia, Illinois, Iowa, Kentucky, Maine, Maryland, Michigan, Mississippi, Missouri, Nevada, New Hampshire, New Mexico, North Carolina, North Dakota, Rhode Island, South Carolina, Texas, Utah, West Virginia, Wisconsin, American Samoa, Guam. Puerto Rico, the Commonwealth of Northern Mariana Islands, and the United States Virgin Islands.

Jurisdictions not listed have elected not to participate in the Executive Order process. Applicants from these jurisdictions or for projects to be administered by Federally recognized Indian Tribes need take no action in regard to E.O. 12372.

Although the jurisdictions described above no longer participate in the process, entities which have met the eligibility requirements of the program are still eligible to apply for a grant even if a State, territory, commonwealth, etc. does not have a SPOC. All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all materials, if any, to the SPOC and indicate the date of this submittal (or the date of contact if no submittal is required) on the Standard Form 424, item 16a. Under 45 CFR 100.8(a), a SPOC has 60 days from the application deadline to comment on proposed new or competing continuation awards.

SPOCs are encouraged to eliminate the submission of routine endorsements as official recommendations. Additionally, SPOCs are requested to clearly differentiate between mere advisory comments and those Official State process recommendations which they intend to trigger the “accommodate or explain” rule under 45 CFR 100.10.

When comments are submitted directly to ACF, they should be addressed to: U.S. Department of Health and Human Services, Administration for Children and Families, Office of Grants Management, 4th Floor, Aerospace Center, 370 L'Enfant Promenade, SW., Washington, DC 20447.

A list of the Single Points of Contact for each State and Territory is included as Attachment H to this program announcement.

7. Application Consideration

Applications that meet the screening requirements in Sections 8.a. and 8.b. below will be reviewed competitively. Such applications will be referred to reviewers for a numerical score and explanatory comments based solely on responsiveness to program guidelines and evaluation criteria published in this announcement.

Qualified panelists not directly responsible for programmatic management of the grant will review applications. The results of these reviews will assist OCS in considering competing applications. Reviewers' scores will weigh heavily in funding decisions but will not be the only factors considered. Applications will be ranked and generally considered in order of the average scores assigned by reviewers. However, highly ranked applications are not guaranteed funding since other factors deemed relevant may be considered including, but not limited to, the timely and proper completion of projects funded with OCS funds granted in the past five years; comments of reviewers and government officials; staff evaluation and input; geographic distribution; previous program performance of applicants; compliance with grant terms under previous DHHS grants; audit reports; investigative reports; and applicant's progress in resolving any final audit disallowance on OCS or other Federal agency grants.

OCS reserves the right to discuss applications with other Federal or non-Federal funding sources to ascertain the applicant's performance record.

8. Criteria For Screening Applications

a. Initial Screening

All applicants will receive a written acknowledgment with an assigned identification number. This number, along with any other identifying codes, must be referenced in all subsequent communications concerning the application. If an acknowledgment is not received within three weeks after the deadline date, please notify ACF by telephone at (202) 401-5103.

All applications that meet the published deadline for submission will be screened to determine completeness and conformity to the requirements of this Announcement. Only those applications meeting the following requirements will be reviewed and evaluated competitively. Others will be returned to the applicants with a notation that they were unacceptable.

(1) The application must contain a Standard Form 424 “Application for Federal Assistance” (SF-424), a budget (SF-424A), and signed “Assurances” (SF-424B) completed according to instructions published in Part F and Attachments A, B, and C of this program announcement.

(2) A budget narrative, which corresponds to the object class categories in the SF 424A for the use of Federal funds, must be included in the application.

(3) The SF-424 and the SF-424B must be signed by an official of the applicant organization who has authority to obligate the organization legally.

(4) A project narrative must also accompany the standard forms.

b. Pre-Rating Review

Applications, which pass the initial screening, will be forwarded to reviewers and/or OCS staff to verify, prior to the programmatic review, that the applications comply with this program announcement in the following areas:

(1) Eligibility: Applicant meets the eligibility requirements found in Part B. Applicant also must be aware that the applicant's legal name as required on the SF 424 (item 5) must match that listed as corresponding to the Employer Identification Number (Item 6).

(2) Duration of Project: The application contains a project that can be successfully implemented in the project period.

(3) Target Populations: The application clearly targets the specific outcomes and benefits of the project to State staff administering CSBG funds, CAA State or regional associations, and/or local providers of CSBG-funded services and activities. Benefits to low-income consumers of CSBG services also must be identified.

(4) Program Focus: The application must address the purpose of the sub-priority area under which funding is being requested.

An application may be disqualified from the competition and returned to the applicant if it does not conform to one or more of the above requirements.

c. Evaluation Criteria

Applications that pass the pre-rating review will be assessed and scored by reviewers. Each reviewer will give a numerical score to each application reviewed. These numerical scores will be supported by explanatory statements on a formal rating form describing major strengths and weaknesses under each applicable criterion published in this announcement.

The in-depth evaluation and review process will use the following criteria coupled with the specific requirements contained in Part B.

Criteria for Review and Evaluation of Applications Submitted under this Program Announcement

(1) Criterion I: Need for Assistance (Maximum: 20 points)

(a) The application documents that the project addresses vital needs related to the purposes stated under the appropriate sub-priority area discussed in this program announcement (Part B) and provides statistics and other data and information in support of its contention. (0-10 points).

(b) The application provides current supporting documentation or other testimonies regarding needs from State CSBG Directors, local service providers and/or State and Regional organizations of local service providers. (0-10 points)

(2) Criterion II: Work Program (Maximum: 30 points)

The work program is results-oriented, appropriately related to the legislative mandate and specifically related to the sub-priority area under which funds are being requested.

Applicant addresses the following: Specific outcomes to be achieved; performance targets that the project is committed to achieving, including reasons for not setting lower or higher target levels and how the project will verify the achievement of these targets; critical milestones which must be achieved if results are to be gained; organizational support, including priority this project has for the agency; past performance in similar work; and specific resources contributed to the project that are critical to success.

Applicant defines the comprehensive nature of the project and methods that will be used to ensure that the results can be used to address a statewide or nationwide project as defined by the priority area.

(3) Criterion III: Significant and Beneficial Impact: (Maximum: 15 points)

Applicant adequately describes how the project will assure long-term program and management improvements and have advantages over other products offered to achieve the same outcomes for State CSBG offices, CAA State and/or regional associations, and/or local providers of CSBG services and activities.

The applicant indicates the types and amounts of public and/or private resources it will mobilize, how those resources will directly benefit the project, and how the project will ultimately benefit low-income individuals and families.

If proposing a project with a training and technical assistance focus, applicant indicates the number of organizations and/or staff it will impact.

If proposing a project with a data collection focus, applicant provides a description of the mechanism it will use to collect data, how it can assure collections from a significant number of States, and the number of States willing to submit data to the applicant.

If proposing to develop a symposium series or other policy-related project(s), the applicant identifies the number and types of beneficiaries.

Methods of securing participant feedback and evaluations of activities are described in the application.

(4) Criterion IV: Evidence of Significant Collaborations (Maximum 10 Points)

Applicant describes how it will involve partners in the Community Services Network in its activities. Where appropriate, applicant describes how it will interface with other related organizations.

If subcontracts are proposed, documentation of the willingness and capacity for the subcontracting organization(s) to participate is described.

(5) Criterion V: Ability of Applicant to Perform (Maximum: 20 points)

(a) The applicant demonstrates that it has experience and a successful track record relevant to the specific activities and program area that it proposes to undertake.

If applicant is proposing to provide training and technical assistance, it details its competence in the specific program priority area and as a deliverer with expertise in the specific fields of training and technical assistance on a nationwide basis.

If applicable, information provided by the applicant also addresses related achievements and competence of each cooperating or sponsoring organization. (0-10 points)

(b) Applicant fully describes, for example in a resume, the experience and skills of the proposed project director and primary staff showing specific qualifications and professional experiences relevant to the successful implementation of the proposed project. (0-10 points)

(6) Criterion VI: Adequacy of Budget (Maximum: 5 points)

(a) The resources requested are reasonable and adequate to accomplish the project. (0-3 points)

(b) Total costs are reasonable and consistent with anticipated results. (0-2 points)

Part E—Contents of Application and Receipt Process

1. Contents of the Application

A cover letter containing an e-mail address and a facsimile (FAX) number, if available, should accompany the application. This will facilitate receipt of an acknowledgment from ACF that the application has been received. (See Part D., 8.a.)

Each application should include one original and two additional copies of the following:

a. A completed Standard Form 424 which has been signed by an official of the organization applying for the grant who has authority to obligate the organization legally. The applicant must be aware that, in signing and submitting the application for this award, it is certifying that it will comply with the Federal requirements concerning the drug-free workplace and debarment regulations set forth in Attachments D and E.

b. “Budget Information-Non-Construction Programs” (SF-424A). (Attachment B)

c. A completed, signed and dated “Assurances—Non-Construction Programs” (SF-424B). (Attachment C)

d. Drug-free Certification. (The applicant is certifying that it will comply with this requirement by signing and submitting the SF-424.) (Attachment D)

e. Debarment Certification. (Attachment E)

f. Certification Regarding Environmental Tobacco Smoke. (The applicant is certifying that it will comply with this requirement by signing and submitting the SF-424.) (Attachment F)

g. Disclosure of Lobbying Activities, SF-LLL. Complete, sign and date form, as appropriate. (Attachment G)

h. A Project Abstract of 500 words or less. The abstract should provide a succinct description of the need, project goals, and a summary of work plan and the proposed impact. Abstract will be maintained as part of the Grantee Administration Tracking System (GATES).

i. A Project Narrative consisting of the following elements preceded by a consecutively numbered table of contents that will describe the project in the following order:

(i) Need for Assistance

(ii) Work Program

(iii) Significant and Beneficial Impact

(iv) Evidence of Significant Collaborations

(v) Ability of Applicant to Perform

(vi) Appendices including proof of non-profit status, such as IRS determination of non-profit status, where applicable; relevant sections of by-laws, articles of incorporation, and/or statement from appropriate State CSBG office which confirms eligibility; resumes; Single Point of Contact comments, where applicable; and any partnership/collaboration agreements.

The original must bear the signature of the authorizing official representing the applicant organization.

The total number of pages for the entire application package should not exceed 35 pages, including appendices. Pages should be numbered sequentially throughout.

If appendices include photocopied materials, they must be legible.

Applications should be two-hole punched at the top center and fastened separately with a compressor slide paper fastener or a binder clip. The submission of bound applications or applications enclosed in a binder are specifically discouraged.

Applications must be submitted on white 8½ x 11-inch paper only since OCS may find it necessary to duplicate them for review purposes. They must not include colored, oversized or folded materials; organizational brochures or other promotional materials; slides; films; clips; etc. They will be discarded if included.

Part F—Instructions for Completing Application Package

(Approved by the OMB under Control Number 0970-0062)

The standard forms attached to this program announcement shall be used when submitting applications for all funds under this announcement.

It is recommended that the applicant reproduce the SF-424, (Attachment A), SF-424A (Attachment B), SF-424B (Attachment C) and that the application be typed on the copies. If an item on the SF-424 cannot be answered or does not appear to be related or relevant to the assistance requested, the applicant should write “NA” for “Not applicable.”

The application should be prepared in accordance with the standard instructions in Attachments A and B corresponding to the forms, as well as the specific instructions set forth below:

SF-424 “Application for Federal Assistance” Item

Item

1. For the purposes of this program announcement, all projects are considered “Applications”; there are no “Pre-Applications.”

5. and 6. The legal name of the applicant must match that listed as corresponding to the Employer Identification Number. Where the applicant is a previous Department of Health and Human Services grantee, enter the Central Registry System Employee Identification Number (CRS/EIN) and the Payment Identifying Number, if one has been assigned, in the Block entitled “Federal Identifier” located at the top right hand corner of the form.

7. If the applicant is a non-profit corporation, enter “N” in the box and specify “non-profit corporation” in the space marked “Other.” Proof of non-profit status such as IRS determination, articles of incorporation, or by-laws, must be included as an appendix to the project narrative.

8. For the purposes of this announcement, all applications are “New.”

9. Enter “DHHS-ACF/OCS.”

10. The Catalog of Federal Domestic Assistance number for the OCS program covered under this announcement is “93.570.”

The title is “Office of Community Services” Discretionary CSBG Awards—Fiscal Year 2002 Spring Training, Technical Assistance, and Capacity-Building Programs.”

15a. For purposes of this announcement, this amount should reflect the amount requested for the entire project period.

15b-e. These items should reflect both cash and third party in-kind contributions for the total project period.

2. SF-424A—“Budget Information-Non-Construction Programs”

See instructions accompanying the form as well as the instructions set forth below:

In completing these sections, the Federal budget entries will relate to the requested OCS Training and Technical Assistance Program funds only, and Non-Federal will include mobilized funds from all other sources—applicant, State, and other. Federal funds, other than those requested from the Training and Technical Assistance Program should be included in Non-Federal entries.

Sections A and D must contain entries for both Federal (OCS) and non-Federal (mobilized).

Section A—Budget Summary

Col. (a): Line 1—Enter “OCS Training and Technical Assistance Program”; Col.

(b): Line 1—Enter “93.570”.

Col. (c) and (d): Not Applicable

Col. (e)-(g): For lines 1 enter in column (e), (f) and (g) the appropriate amounts needed to support the project for the entire project period.

Line 5—Enter the figures from Line 1 for all columns completed under (e), (f), and (g).

Section B—Budget Categories

This section should contain entries for OCS funds only. For all projects, the first budget period of 12 months will be entered in Column #1. Allowability of costs is governed by applicable cost principles set forth in 45 CFR Parts 74 and 92.

A separate itemized budget justification should be included to explain fully and justify major items, as indicated below. The budget justification should immediately follow the Table of Contents.

Column 5: Enter total requirements for Federal funds by the Object Class Categories of this section.

Line 6a—Personnel: Enter the total costs of salaries and wages.

Justification: Identify the project director. Specify by title or name the percentage of time allocated to the project, the individual annual salaries and the cost to the project (both Federal and Non-Federal) of the organization's staff who will be working on the project.

Line 6b—Fringe Benefits: Enter the total costs of fringe benefits, unless treated as part of an approved indirect cost rate which is entered on line 6j.

Justification: Enter the total costs of fringe benefits, unless treated as part of an approved indirect cost rate.

Line 6c—Travel: Enter total cost of all travel by employees of the project. Do not enter costs for consultant's travel.

Justification: Include the name(s) of traveler(s), total number of trips, destinations, length of stay, mileage rate, transportation costs and subsistence allowances.

Line 6d-Equipment: Enter the total costs of all non-expendable personal property to be acquired by the project. Equipment means tangible non-expendable personal property having a useful life of more than one year and an acquisition cost of $5,000 or more per unit.

Justification: Equipment to be purchased with Federal funds must be required to conduct the project, and the applicant organization or its subgrantees must not already have the equipment or a reasonable facsimile available to the project. The justification also must contain plans for future use or disposal of the equipment after the project ends.

Line 6e—Supplies: Enter the total costs of all tangible personal property (surplus) other than that included on line 6d.

Line 6h—Other: Enter the total of all other costs. Such costs, where applicable, may include, but are not limited to, insurance, food, medical and dental costs (noncontractual), fees and travel paid directly to individual consultants, local transportation (all travel which does not require per diem is considered local travel), space and equipment rentals, printing and publication, computer use training costs including tuition and stipends, training service costs including wage payments to individuals and supportive service payments, and staff development costs.

Line 6j—Indirect Charges: Enter the total amount of indirect costs. This line should be used only when the applicant currently has an indirect cost rate approved by the U.S. Department of Health and Human Services or other Federal agencies. With the exception of States and local governments, applicants should enclose a copy of the current approved rate agreement if it was negotiated with a Federal agency other than the U.S. Department of Health and Human Services. For an educational institution, the indirect costs on training grants will be allowed at the lesser of the institution's actual indirect costs or 8 percent of the total direct costs.

If the applicant organization is in the process of initially developing or renegotiating a rate, it should immediately, upon notification that an award will be made, develop a tentative indirect cost rate proposal based on its most recently completed fiscal year in accordance with the principles set forth in the pertinent DHHS Guide for Establishing Indirect Cost Rates, and submit it to the appropriate DHHS Regional Office.

It should be noted that when an indirect cost rate is requested, those costs included in the indirect cost pool cannot be budgeted or charged as direct costs to the grant.

Line 6k—Totals: The total amount shown in Section B, Column (5), should be the same as the amount shown in Section A, line 5, column (e).

Line 7—Program Income: Enter the estimated amount of income, if any is expected to be generated from this project. Separately show expected program income generated from OCS support and income generated from other mobilized funds. Do not add or subtract this amount from the budget total. Show the nature and source of income in the program narrative statement.

Column 5: Carry totals from column 1 to column 5 for all line items.

Justification: Describe the nature, source and anticipated use of program income in the Program Narrative Statement.

Section C—Non-Federal Resources

This section is to record the amounts of Non-Federal resources that will be used to support the project. Non-Federal resources refer to other than OCS funds for which the applicant has received a commitment. Provide a brief explanation, on a separate sheet, showing the type of contribution, broken out by Object Class Categories, section B.6) and whether it is cash or third party in-kind. The firm commitment of these required funds must be documented and submitted with the application.

Except in unusual situations, this documentation must be in the form of letters of commitment or letters of intent from the organization(s)/individuals from which funds will be received.

Line 8—Col. (a): Enter the project title.

Col. (b): Enter the amount of cash or donations to be made by the applicant.

Col. (c): Enter the State contribution.

Col. (d): Enter the amount of cash and third party in-kind contributions to be made from all other sources.

Col. (e): Enter the total of column (b), (c), and (d). Lines 9, 10, and 11 should be left blank.

Line 12—Carry the total of each column of line 8, (b) through (e). The amount in column (e) should be equal to the amount on section A, Line 5, and column (f).

Justification: Describe third party in-kind contributions, if included.

Section D—Forecasted Cash Needs

Line 13—Enter the amount of Federal (OCS) cash needed for this grant for first year and by quarter, during the first 12-month budget period.

Line 14—Enter the amount of cash from all other sources needed by quarter during the first year.

Line 15—Enter the total of Lines 13 and 14 for all columns.

Section E—Budget Estimates of Federal Funds Needed For Balance of the Project

To be completed by applicants applying for funds for a three year project period.

Section F—Other Budget Information

Line 21—Include narrative justification required under Section B for each object class category for the total project period.

Line 22—Enter the type of HHS or other Federal agency approved indirect cost rate (provisional, predetermined, final or fixed) that will be in effect during the funding period, the estimated amount of the base to which the rate is applied and the total indirect expense. Also, enter the date the rate was approved, where applicable. Attach a copy of the approved rate agreement if it was negotiated with a Federal agency other than the U.S. Department of Health and Human Services. If the applicant decides not apply an indirect cost rate to the proposal, then “this line should be left blank.”

Line 23—Provide any other explanations and continuation sheets required or deemed necessary to justify or explain the budget information.

3. SF-424B “Assurances Non-Construction”

Applicant must sign and return the “Assurances” found at Attachment C with its application.

4. Project Narrative

Each narrative section of the application must address one or more of the focus areas described in Part B and follow the format outlined below:

(a) Need for Assistance

(b) Work Program

(c) Significant and Beneficial Impact

(d) Evidence of Significant Collaborations

(e) Ability of the Applicant to Perform

(f) Adequacy of the Budget

Part G—Post Award Information and Reporting Requirements

Following approval of the applications selected for funding, notice of project approval and authority to draw down project funds will be made in writing. The official award document is the Financial Assistance Award, which indicates, the amount of Federal funds approved for use in the project, the project and budget periods for which support is provided, the terms and conditions of the award, and the total project period for which support is contemplated.

In addition to the standard terms and conditions which will be applicable to grants, grantee will be subject to the provisions of 45 CFR parts 74 (non-governmental) and 92 (governmental) and OMB Circulars A-122 (nonprofit) and A-87 (governmental).

Grantees will be required to submit semi-annual program progress narrative and financial reports (SF-269) as well as a final program progress narrative report and a final financial report.

Grantees are subject to the audit requirements in 45 CFR parts 74 (non-governmental) and 92 (governmental) and OMB Circular A-133.

Section 319 of Public Law 101-121, signed into law on October 23, 1989 imposes prohibitions and requirements for disclosure and certification related to lobbying on recipients of Federal contracts, grants, cooperative agreements, and loans. It provides exemptions for Indian tribes and tribal organizations. Current and prospective recipients (and their sub-tier contractors and/or grantees) are prohibited from using Federal funds, other than profits from a Federal contract, for lobbying Congress or any Federal agency in connection with the award of a contract, grant, cooperative agreement, or loan. In addition, for each award action in excess of $100,000 (or $150,000 for loans) the law requires recipients and their subtier contractors and/or subgrantees (1) to certify that they have neither used nor will use any appropriated funds for payment to lobbyists, (2) to disclose the name, address, payment details, and purpose of any agreements with lobbyists whom recipients or their subtier Contractors or subgrantee will pay with profits or non-appropriated funds on or after December 22, 1989, and (3) to file quarterly up-dates about the use of lobbyists if material changes occur in their use. The law establishes civil penalties for noncompliance. See Attachment F for certification and disclosure forms to be submitted with the applications for this program.

Public Law 103-227, Part C. Environmental Tobacco Smoke, also known as the Pro-Children Act of 1994 (Act), requires that smoking not be permitted in any portion of any indoor facility owned or leased or contracted for by an entity and used routinely or regularly for the provision of health, day care, education, or library services to children under the age of 18, if the services are funded by Federal programs either directly or through States or local governmental by Federal grant, contract, loan or loan guarantee. The law does not apply to facilities funded solely by Medicare or Medicaid funds, and portions of facilities used for in-patient drug or alcohol treatment. Failure to comply with the provisions of the law may result in the imposition of a civil monetary penalty of up to $1,000 per day and/or the imposition of an administrative compliance order on the responsible entity.

By signing and submitting this application, the applicant/grantee certifies that it will comply with the requirement of the Act. The applicant/grantee further agrees that it will require the language of this certification be included in any sub-awards, which contain provisions for children's services and that all subgrantees shall certify accordingly.

Attachment H indicates the regulations that apply to all applicants/grantees under this program.

Dated: June 27, 2002.
Clarence H. Carter,
Director, Office of Community Services.

List of Attachments

A—Application For Federal Assistance, SF 424

B—Budget Information—Non-Construction Programs, SF 424A

C—Assurances—Non-Construction Programs, SF 424B

D—Certification Regarding Drug-Free Work Place

E—Debarment Certification

F—Certification Regarding Environmental Tobacco Smoke

G—Disclosure of Lobbying Activities, SF-LLL

H—Listing of State Single Points of Contact

BILLING CODE 4184-01-P

BILLING CODE 4184-01-C

Attachment A, Page 2

Public reporting burden for this collection of information is estimated to average 45 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0043), Washington, DC 20503.

Please do not return your completed form to the Office of Management and Budget. Send it to the address provided by the sponsoring agency.

This is a standard form used by applicants as a required facesheet for preapplications and applications submitted for Federal assistance. It will be used by Federal agencies to obtain applicant certification that States which have established a review and comment procedure in response to Executive Order 12372 and have selected the program to be included in their process, have been given an opportunity to review the applicant's submission.

Item and Entry

1. Self-explanatory.

2. Date application submitted to Federal agency (or State if applicable) and applicant's control number (if applicable).

3. State use only (if applicable).

4. If this application is to continue or revise an existing award, enter present Federal identifier number. If for a new project, leave blank.

5. Legal name of applicant, name of primary organizational unit which will undertake the assistance activity, complete address of the applicant, and name and telephone number of the person to contact on matters related to this application.

6. Enter Employer Identification Number (EIN) as assigned by the Internal Review Service.

7. Enter the appropriate letter in the space provided.

8. Check appropriate box and enter appropriate letter(s) in the space(s) provided:

—“New” means a new assistance award.

—“Continuation” means an extension for an additional funding/budget period for a project with a projected completion date.

—“Revision” means any change in the Federal Government's financial obligation or contingent liability form an existing obligation.

9. Name of Federal agency from which assistance is being requested with this application.

10. Use the Catalog of Federal Domestic Assistance number and title of the programs under which assistance is requested.

11. Enter a brief descriptive title of the project. If more than one program is involved, you should append an explanation on a separate sheet. If appropriate (e.g., construction or real property projects), attach a map showing project location. For preapplications, use a separate sheet to provide a summary description of this project.

12. List only the largest political entities affected (e.g., State, counties, cities).

13. Self-explanatory.

14. List the applicant's Congressional District and any District(s) affected by the program or project.

15. Amount requested or to be contributed during the first funding/budget period by each contributor. Value of in-kind contributions should be included on appropriate lines as applicable. If the action will result in a dollar change to an existing award, indicate the amount of the change. For decreases, enclose the amounts in parentheses. If both basic and supplemental amounts are included, show breakdown on an attached sheet. For multiple program funding, use totals and show breakdown using same categories as item 15.

16. Applicants should contact the State Single Point of Contact (SPOC) for Federal Executive Order 12372 to determine whether the application is subject to the State intergovernmental review process.

17. This question applies to the applicant organization, not the person who signs as the authorized representative. Categories of debt include delinquent audit disallowances, loans and taxes.

18. To be signed by the authorized representative of the applicant. A copy of the governing body's authorization for you to sign this application as official representative must be on file in the applicant's office (Certain Federal agencies may require that this authorization be submitted as part of the application.)

BILLING CODE 4184-01-P

BILLING CODE 4184-01-C

Instructions for the SF-424A

Public reporting burden for this collection of information is estimated to average 180 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0044), Washington, DC 20503.

Please do not return your completed form to the Office of Management and Budget. Send to the address provided by the sponsoring agency.

General Instructions

This form is designed so that application can be made for funds from one or more grant programs. In preparing the budget, adhere to any existing Federal grantor agency guidelines which prescribe now and whether budgeted amounts should be separately shown for different functions or activities within the program. For some programs, grantor agencies may require budgets to be separately shown by function or activity. For other programs, grantor agencies may require a breakdown by function or activity. Sections A, B, C, and D should include budget estimates for the whole project except when applying for assistance which requires Federal authorization in annual or other funding period increments. In the latter case, Sections A, B, C, and D should provide the budget for the first budget period (usually a year) and Section E should present the need for Federal assistance in the subsequent budget periods. All applications should contain a breakdown by the object class categories shown in Lines a-k of section B.

Section A. Budget Summary Lines 1-4 Columns (a) and (b)

For applications pertaining to a single Federal grant program (Federal Domestic Assistance Catalog number) and not requiring a functional or activity breakdown, enter on Line 1 under Column (a) the Catalog program title and the Catalog number in Column (b).

For applications pertaining to a single program requiring budget amounts by multiple functions or activities, enter the name of each activity or function on each line in Column (a), and enter the Catalog number in Column (b). For applications pertaining to multiple programs where none of the programs require a breakdown by function or activity, enter the Catalog program title on each line in Column (a) and the respective Catalog number on each line in Column (b).

For applications pertaining to multiple programs where one or more programs require a breakdown by function or activity, prepare a separate sheet for each program requiring the breakdown. Additional sheets should be used when one form does not provide adequate space for all breakdown of data required. However, when more than one sheet is used, the first page should provide the summary totals by programs.

Lines 1-4, Columns (c) through (g)

For new applications, leave Column (c) and (d) blank. For each line entry in Columns (a) and (b), enter in Columns (e), (f), and (g) the appropriate amounts of funds needed to support the project for the first funding period usually a year).

For continuing grant program applications, submit these forms before the end of each funding period as required by the grantor agency. Enter in Columns (c) and (d) the estimated amounts of funds which will remain unobligated at the end of the grant funding period only if the Federal grantor agency instructions provide for this. Otherwise, leave these columns blank. Enter in columns (e) and (f) the amounts of funds needed for the upcoming period. The amounts(s) in Column (g) should be the sum of amounts in Columns (e) and (f).

For supplemental grants and changes to existing grants, do not use Columns (c) and (d). Enter in Column (e) the amount of the increase or decrease of Federal funds and enter in Column (f) the amount of the increase or decrease of non-Federal funds. In Column (g) enter the new total budgeted amount (Federal and non-Federal) which includes the total previous authorized budgeted amounts plus or minus, as appropriate, the amounts shown in Columns (e) and (f). The amount(s) in Column (g) should not equal the sum of amounts in Columns (e) and (f).

Line 5—Show the total for all columns used.

Section B. Budget Categories

In the column headings (1) through (4), enter the titles of the same programs, functions, and activities shown on Lines 1-4, Column (a), Section A. When additional sheets are prepared for Section A, provide similar column headings on each sheet. For each program, function or activity, fill in the total requirements for funds (both Federal and non-Federal) by object class categories.

Line 6a-j—Show the totals of Lines 6a to 6h in each column.

Line 6j—Show the amount of indirect cost.

Line 6k—Enter the total amounts on lines 6i and 6j. For all applications for new grants and continuation grants the total amount in column (5), Line 6k, should be the same as the total amount shown in Section A, Column (g), Line 5. For supplemental grants and changes to grants, the total amount of the increase or decrease as shown in Columns (1)-(4), Line 6k should be the same as the sum of the amounts in Section A, Columns (e) and (f) on Line 5.

Line 7—Enter the estimated amount of income, if any, expected to be generated from this project. Do not add or subtract this amount from the total project amount. Show under the program narrative statement the nature and source of income. The estimated amount of program income may be considered by the Federal grantor agency in determining the total amount of the grant.

Section C. Non-Federal Resources

Lines 8-11—Enter amounts of non-Federal resources that will be used on the grant. If in-kind contributions are included, provide a brief explanation on a separate sheet.

Column (a)—Enter the program titles identical to Column (a), Section A. A breakdown by function or activity is not necessary.

Column (b)—Enter the contribution to be made by the applicant.

Column (c)—Enter the amount of the State's cash and in-kind contribution if the applicant is not a State or State agency. Applicants which are a State or State agencies should leave this column blank.

Column (d)—Enter the amount of cash and in-kind contributions to be made from all other sources.

Column (e)—Enter total of Columns (b), (c), and (d).

Line 12—Enter the total for each of Columns (b)-(e). The amount in Column (e) should be equal to the amount on Line 5, Column (f), Section A.

Section D. Forecasted Cash Needs

Line 13—Enter the amount of cash needed by quarter from the grantor agency during the first year.

Line 14—Enter the amount of cash from all other sources needed by quarter during the first year.

Line 15—Enter the totals of amounts on Lines 13 and 14.

Section E. Budget Estimates of Federal Funds Needed for Balance of the Project

Lines 16-19—Enter in Column (a) the same grant program titles shown in Column (a), Section A. A breakdown by function or activity is not necessary. For new applications and continuation grant applications, enter in the proper columns amounts of Federal funds which will be needed to complete the program or project over the succeeding funding periods (usually in years). This section need not be completed for revisions (amendments, changes, or supplements) to funds for the current year of existing grants.

If more than four lines are needed to list the program titles, submit additional schedules as necessary.

Line 20—Enter the total for each of the Columns (b)-(3). When additional schedules are prepared for this Section, annotate accordingly and show the overall totals on this line.

Section F. Other Budget Information

Line 21—Use this space to explain amounts for individual direct object class cost categories that may appear to be out of the ordinary or to explain the details as required by the Federal grantor agency

Line 22—Enter the type of indirect rate (provisions, predetermined, final or fixed) that will be in effect during the funding period, the estimated amount of the base to which the rate is applied, and the total indirect expense.

Line 23—Provide any other explanations or comments deemed necessary.

Attachment C

OMB Approval No. 0348-0040

Assurances—Non-Construction Programs

Public reporting burden for this collection of information is estimated to average 15 minutes per response, including time for reviewing instructions, searching existing data sources, gathering and maintaining the data needed, and completing and reviewing the collection of information. Send comments regarding the burden estimate or any other aspect of this collection of information, including suggestions for reducing this burden, to the Office of Management and Budget, Paperwork Reduction Project (0349-0040), Washington, DC 20503.

Please do not return your completed form to the Office of Management and Budget. Send it to the address provided by the sponsoring agency.

Note: Certain of these assurances may not be applicable to your project or program. If you have questions, please contact the awarding agency. Further, certain Federal awarding agencies may require applicants to certify to additional assurances. If such is the case, you will be notified.

As the duly authorized representative of the applicant, I certify that the applicant:

1. Has the legal authority to apply for Federal assistance and the institutional, managerial and financial capability (including funds sufficient to pay the non-Federal share of project cost) to ensure proper planning, management and completion of the project described in this application.

2. Will give the awarding agency, the Comptroller General of the United States and, if appropriate, the State, through any authorized representative, access to and the right to examine all records, books, papers, or documents related to the award; and will establish a proper accounting system in accordance with generally accepted accounting standards or agency directives.

3. Will establish safeguards to prohibit employees from using their positions for a purpose that constitutes or presents the appearance of personal or organizational conflict interest, or personal gain.

4. Will initiate and complete the work within the applicable time frame after receipt of approval of the awarding agency.

5. Will comply with the Intergovernmental Personnel Act of 1970 (42 U.S.C. §§ 4728-4763) relating to prescribed standards for merit systems for programs funded under one of the 19 statutes or regulations specified in Appendix A of OPM's Standards for a Merit System of Personnel Administration (5 CFR 900, Subpart F).

6. Will comply with all Federal statutes relating to nondiscrimination. These include but are not limited to: (a) Title VI of the Civil Rights Act of 1964 (P.L. 88-352) which prohibits discrimination on the basis of race, color, or national origin; (b) Title IX of the Education Amendments of 1972, as amended (20 U.S.C. §§ 1681-1683, and 1685-1686), which prohibits discrimination on the basis of sex; (c) Section 504 of the Rehabilitation Act of 1973, as amended (29 U.S.C. § 794), which prohibits discrimination on the basis of handicaps; (d) the Age Discrimination Act of 1975, as amended (42 U.S.C. §§ 6101-6107), which prohibits discrimination on the basis of age; (e) the Drug Abuse Office and Treatment Act of 1972 (P.L. 92-255), as amended, relating to nondiscrimination on the basis of drug abuse; (f) the Comprehensive Alcohol Abuse and Alcoholism Prevention, Treatment and Rehabilitation Act of 1970 (P.L. 91-616), as amended, relating to nondiscrimination on the basis of alcohol abuse or alcoholism; (g) §§ 523 and 527 of the Public Health Service Act of 1912 (42 U.S.C. §§ 290 dd-3 and 290 ee-3), as amended, relating to confidentiality of alcohol and drug abuse patient records; (h) Title VII of the Civil Rights Act of 1968 (42 U.S.C. §§ 3601 et seq.), as amended, relating to nondiscrimination in the sale, rental or financing of housing; (i) any other nondiscrimination provisions in the specific statute(s) under which application for Federal assistance is being made; and, (j) the requirements of any other nondiscrimination statute(s) which may apply to the application.

7. Will comply, or has already complied, with the requirements of Titles II and III of the Uniform Relocation Assistance and Real Property Acquisition Policies Act of 1970 (P.L. 91-646) which provide for fair and equitable treatment of persons displaced or whose property is acquired as a result of Federal or federally-assisted programs. These requirements apply to all interests in real property acquired for project purposes regardless of Federal participation in purchases.

8. Will comply, as applicable, with provisions of the Hatch Act (5 U.S.C. §§ 1501-1508 and 7324-7328) which limit the political activities of employees whose principal employment activities are funded in whole or in part with Federal funds.

9. Will comply, as applicable, with the provisions of the Davis-Bacon Act (40 U.S.C. §§ 276a to 276a-7), the Copeland Act (40 U.S.C. § 276c and 18 U.S.C. § 874), and the Contract Work Hours and Safety Standards Act (40 U.S.C. §§ 327-333), regarding labor standards for federally-assisted construction subagreements.

10. Will comply, if applicable, with flood insurance purchase requirements of Section 102(a) of the Flood Disaster Protection Act of 1973 (P.L. 93-234) which requires recipients in a special flood hazard area to participate in the program and to purchase flood insurance if the total cost of insurable construction and acquisition is $10,000 or more.

11. Will comply with environmental standards which may be prescribed pursuant to the following: (a) Institution of environmental quality control measure under the National Environmental Policy Act of 1969 (P.L. 91-190) and Executive Order (EO) 11514: (b) notification of violating facilities pursuant to EO 11738; (c) protection of wetlands pursuant to EO 11990; (d) evaluation of flood hazards in floodplains in accordance with EO 11988; (e) assurance of project consistency with the approved State management program developed under the Coastal Zone Management Act of 1972 (16 U.S.C. §§ 1451 et seq.); (f) conformity of Federal actions to State (Clean Air) Implementation Plans under Section 176(c) of the Clean Air Act of 1955, as amended (42 U.S.C. §§ 7401 et seq.); (g) protection of underground sources of drinking water under the Safe Drinking Water Act of 1974, as amended (P.L. 93-523); and, (h) protection of endangered species under the Endangered Species Act of 1973, as amended (P.L. 93-205).

12. Will comply with the Wild and Scenic Rivers Act of 1968 (16 U.S.C. §§ 1271 et seq.) related to protecting components or potential components of the national wild and scenic rivers system.

13. Will assist the awarding agency in assuring compliance with section 106 of the National Historic Preservation act of 1966, as amended (16 U.S.C. § 470), EO 11593 (identification and protection of historic properties), and the Archaeological and Historic Preservation Act of 1974 (16 U.S.C. §§ 469a-1 et seq.).

14. Will comply with P.L. 93-348 regarding the protection of human subjects involved in research, development, and related activities supported by this award of assistance.

15. Will comply with the Laboratory Animal Welfare Act of 1966 (P.L. 89-544, as amended, 7 U.S.C. §§ 2131 et seq.) pertaining to the care, handling, and treatment of warm blooded animals held for research, teaching, or other activities supported by this award of assistance.

16. Will comply with the Lead-Based Paint Poisoning Prevention Act (42 U.S.C. §§ 4801 et seq.) which prohibits the use of lead-based paint in construction or rehabilitation of residence structures.

17. Will cause to be performed the required financial and compliance audits in accordance with the Single Audit Act Amendments of 1996 and OMB Circular No. A-133, “Audits of States, Local Governments, and Non-Profit Organizations.”

18. Will comply with all applicable requirements of all other Federal laws, executive orders, regulations, and policies governing this program.

Signature of Authorized Certifying Official

Title

Applicant Organization

Date submitted

Certification Regarding Drug-Free Workplace Requirements

This certification is required by the regulations implementing the Drug-Free Workplace Act of 1988: 45 CFR Part 76, Subpart, F. Sections 76.630(c) and (d)(2) and 76.645(a)(1) and (b) provide that a Federal agency may designate a central receipt point for STATE-WIDE AND STATE AGENCY-WIDE certifications, and for notification of criminal drug convictions. For the Department of Health and Human Services, the central pint is: Division of Grants Management and Oversight, Office of Management and Acquisition, Department of Health and Human Services, Room 517-D, 200 Independence Avenue, SW Washington, DC 20201.

Certification Regarding Drug-Free Workplace Requirements (Instructions for Certification)

1. By signing and/or submitting this application or grant agreement, the grantee is providing the certification set out below.

2. The certification set out below is a material representation of fact upon which reliance is placed when the agency awards the grant. If it is later determined that the grantee knowingly rendered a false certification, or otherwise violates the requirements of the Drug-Free Workplace Act, the agency, in addition to any other remedies available to the Federal Government, may take action authorized under the Drug-Free Workplace Act.

3. For grantees other than individuals, Alternate I applies.

4. For grantees who are individuals, Alternate II applies.

5. Workplaces under grants, for grantees other than individuals, need not be identified on the certification. If known, they may be identified in the grant application. If the grantee does not identify the workplaces at the time of application, or upon award, if there is no application, the grantee must keep the identity of the workplace(s) on file in its office and make the information available for Federal inspection. Failure to identify all known workplaces constitutes a violation of the grantee's drug-free workplace requirements.

6. Workplace identifications must include the actual address of buildings (or parts of buildings) or other sites where work under the grant takes place. Categorical descriptions may be used (e.g., all vehicles of a mass transit authority or State highway department while in operation, State employees in each local unemployment office, performers in concert halls or radio studios).

7. If the workplace identified to the agency changes during the performance of the grant, the grantee shall inform the agency of the change(s), if it previously identified the workplaces in question (see paragraph five).

8. Definitions of terms in the Nonprocurement Suspension and Debarment common rule and Drug-Free Workplace common rule apply to this certification. Grantees' attention is called, in particular, to the following definitions from these rules:

Controlled substance means a controlled substance in Schedules I through V of the Controlled Substances Act (21 U.S.C. 812) and as further defined by regulation (21 CFR 1308.11 through 1308.15);

Conviction means a finding of guilt (including a plea of nolo contendere) or imposition of sentence, or both, by any judicial body charged with the responsibility to determine violations of the Federal or State criminal drug statutes;

Criminal drug statute means a Federal or non-Federal criminal statute involving the manufacture, distribution, dispensing, use, or possession of any controlled substance;

Employee means the employee of a grantee directly engaged in the performance of work under a grant, including: (i) All direct charge employees; (ii) All indirect charge employees unless their impact or involvement is insignificant to the performance of the grant; and, (iii) Temporary personnel and consultants who are directly engaged in the performance of work under the grant and who are on the grantee's payroll. This definition does not include workers not on the payroll of the grantee (e.g., volunteers, even if used to meet a matching requirement; consultants or independent contractors not on the grantee's payroll; or employees of subrecipients or subcontractors in covered workplaces).

Certification Regarding Drug-Free Workplace Requirements

Alternate I. (Grantees Other Than Individuals)

The grantee certifies that it will or will continue to provide a drug-free workplace by:

(a) Publishing a statement notifying employees that the unlawful manufacture, distribution, dispensing, possession, or use of a controlled substance is prohibited in the grantee's workplace and specifying the actions that will be taken against employees for violation of such prohibition;

(b) Establishing an ongoing drug-free awareness program to inform employees about—

(1) The dangers of drug abuse in the workplace;

(2) The grantee's policy of maintaining a drug-free workplace;

(3) Any available drug counseling, rehabilitation, and employee assistance programs; and

(4) The penalties that may be imposed upon employees for drug abuse violations occurring in the workplace;

(c) Making it a requirement that each employee to be engaged in the performance of the grant be given a copy of the statement required by paragraph (a);

(d) Notifying the employee in the statement required by paragraph (a) that, as a condition of employment under the grant, the employee will—

(1) Abide by the terms of the statement; and

(2) Notify the employer in writing of his or her conviction for a violation of a criminal drug statute occurring in the workplace no later than five calendar days after such conviction;

(e) Notifying the agency in writing, within ten calendar days after receiving notice under paragraph (d)(2) from an employee or otherwise receiving actual notice of such conviction. Employers of convicted employees must provide notice, including position title, to every grant officer or other designee on whose grant activity the convicted employee was working, unless the Federal agency has designated a central point for the receipt of such notices. Notice shall include the identification number(s) of each affect grant;

(f) Taking one of the following actions, within 30 calendar days of receiving notice under paragraph (d)(2), with respect to any employee who is so convicted—

(1) Taking appropriate personnel action against such an employee, up to and including termination, consistent with the requirements of the Rehabilitation Act of 1973, as amended; or

(2) Requiring such employee to participate satisfactorily in a drug abuse assistance or rehabilitation program approved for such purposes by a Federal, State, or local health, law enforcement, or other appropriate agency;

(g) Making a good faith effort to continue to maintain a drug-free workplace through implementation of paragraphs (a), (b), (c), (d), (e) and (f).

(B) The grantee may insert in the space provided (below the sites) for the performance or work done in connection with the specific grant:

Place of Performance

(Street address, city, county, state, zip code)

Check if there are workplaces on file that are not identified here.

Alternate II. (Grantees Who Are Individuals)

(a) The grantee certifies that, as a condition of the grant, he or she will not engage in the unlawful manufacture, distribution, dispensing, possession, or use of a controlled substance in conducting any activity with the grant;

(b) If convicted of a criminal drug offense resulting from a violation occurring during the conduct of any grant activity, he or she will report the conviction, in writing, within 10 calendar days of the conviction, to every grant officer or other designee, unless the Federal agency designates a central point for the receipt of such notices. When notice is made to such a central point, it shall include the identification number(s) of each affected grant.

Administration for Children and Families, U.S. Department of Health and Human Services: Certification Regarding Debarment, Suspension and Other Responsibility Matters

Certification Regarding Debarment, Suspension, and Other Responsibility Matters—Primary Covered Transactions

Instructions for Certification

1. By signing and submitting this proposal, the prospective primary participant is providing the certification set out below.

2. The inability of a person to provide the certification required below will not necessarily result in denial of participation in this covered transaction. The prospective participant shall submit an explanation of why it cannot provide the certification set out below. The certification or explanation will be considered in connection with the department or agency's determination whether to enter into this transaction. However, failure of the prospective primary participant to furnish a certification or an explanation shall disqualify such person from participation in this transaction.

3. The certification in this clause is a material representation of fact upon which reliance was placed when the department or agency determined to enter into this transaction. If it is later determined that the prospective primary participant knowingly rendered an erroneous certification, in addition to other remedies available to the Federal Government, the department or agency may terminate this transaction for cause or default.

4. The prospective primary participant shall provide immediate written notice to the department or agency to which this proposal is submitted if at any time the prospective primary participant learns that its certification was erroneous when submitted or has become erroneous by reason of changed circumstances.

5. The terms covered transaction, debarred, suspended, ineligible, lower tier covered transaction, participant, person, primary covered transaction, principal, proposal, and voluntarily excluded, as used in this clause, have the meanings set out in the Definitions and Coverage sections of the rules implementing Executive Order 12549. You may contact the department or agency to which this proposal is being submitted for assistance in obtaining a copy of those regulations.

6. The prospective primary participant agrees by submitting this proposal that, should the proposed covered transaction be entered into, it shall not knowingly enter into any lower tier covered transaction with a person who is proposed for debarment under 48 CFR part 9, subpart 9.4, debarred, suspended, declared ineligible, or voluntarily excluded from participation in this covered transaction, unless authorized by the department or agency entering into this transaction.

7. The prospective primary participant further agrees by submitting this proposal that it will include the clause titled “Certification Regarding Debarment, Suspension, Ineligibility and Voluntary Exclusion-Lower Tier Covered Transaction,” provided by the department or agency entering into this covered transaction, without modification, in all lower tier covered transactions and in all solicitations for lower tier covered transactions.

8. A participant in a covered transaction may rely upon a certification of a prospective participant in a lower tier covered transaction that it is not proposed for debarment under 48 CFR part 9, subpart 9.4, debarred, suspended, ineligible, or voluntarily excluded from the covered transaction, unless is knows that the certification is erroneous. A participant may decide the method and frequency by which it determines the eligibility of its principals. Each participant may, but is not required to, check the List of Parties Excluded from Federal Procurement and Nonprocurement Programs.

9. Nothing contained in the foregoing shall be construed to require establishment of a system of records in order to render in good faith the certification required by this clause. The knowledge and information of a participant is not required to exceed that which is normally possessed by a prudent person in the ordinary course of business dealings.

10. Except for transactions authorized under paragraph 6 of these instructions, if a participant in a covered transaction knowingly enters into a lower tier covered transaction with a person who is proposed for debarment under 48 CFR part 9, subpart 9.4, suspended, debarred, ineligible, or voluntarily excluded from participation in this transaction, in addition to other remedies available to the Federal Government, the department or agency may terminate this transaction for cause or default.

Certification Regarding Debarment, Suspension, and Other Responsibility Matters—Primary Covered Transactions

(1) The prospective primary participant certifies to the best of its knowledge and belief, that it and its principals:

(a) Are not presently debarred, suspended, proposed for debarment, declared ineligible, or voluntarily excluded by any Federal department or agency;

(b) Have not within a three-year period preceding this proposal been convicted of or had a civil judgment rendered against them for commission of fraud or a criminal offense in connection with obtaining, attempting to obtain, or performing a public (Federal, State or local) transaction or contract under a public transaction; violation of Federal or State antitrust statutes or commission of embezzlement, theft, forgery, bribery, falsification or destruction of records, making false statements, or receiving stolen property;

(c) Are not presently indicted for or otherwise criminally or civilly charged by a governmental entity (Federal, State or local) with commission of any of the offenses enumerated in paragraph (1)(b) of this certification; and

(d) Have not within a three-year period preceding this application/proposal had one or more public transactions (Federal, State or local) terminated for cause or default.

(2) Where the prospective primary participant is unable to certify to any of the statements in this certification, such prospective participant shall attach an explanation to this proposal.

Certification Regarding Debarment, Suspension, Ineligibility and Voluntary Exclusion—Lower Tier Covered Transactions

Instructions for Certification

1. By signing and submitting this proposal, the prospective lower tier participant is providing the certification set out below.

2. The certification in this clause is a material representation of fact upon which reliance was placed when this transaction was entered into. If it is later determined that the prospective lower tier participant knowingly rendered an erroneous certification, in addition to other remedies available to the Federal Government the department or agency with which this transaction originated may pursue available remedies, including suspension and/or debarment.

3. The prospective lower tier participant shall provide immediate written notice to the person to which this proposal is submitted if at any time the prospective lower tier participant learns that its certification was erroneous when submitted or had become erroneous by reason of changed circumstances.

4. The terms covered transaction, debarred, suspended, ineligible, lower tier covered transaction, participant, person, primary covered transaction, principal, proposal, and voluntarily excluded, as used in this clause, have the meaning set out in the Definitions and Coverage sections of rules implementing Executive Order 12549. You may contact the person to which this proposal is submitted for assistance in obtaining a copy of those regulations.,

5. The prospective lower tier participant agrees by submitting this proposal that, [[Page 33043]] should the proposed covered transaction be entered into, it shall not knowingly enter into any lower tier covered transaction with a person who is proposed for debarment under 48 CFR part 9, subpart 9.4, debarred, suspended, declared ineligible, or voluntarily excluded from participation in this covered transaction, unless authorized by the department or agency with which this transaction originated.

6. The prospective lower tier participant further agrees by submitting this proposal that it will include this clause titled “Certification Regarding Debarment, Suspension, Ineligibility and Voluntary Exclusion-Lower Tier Covered Transaction,” without modification, in all lower tier covered transactions and in all solicitations for lower tier covered transactions.

7. A participant in a covered transaction may rely upon a certification of a prospective participant in a lower tier covered transaction that it is not proposed for debarment under 48 CFR part 9, subpart 9.4, debarred, suspended, ineligible, or voluntarily excluded from covered transactions, unless it knows that the certification is erroneous. A participant may decide the method and frequency by which it determines the eligibility of its principals. Each participant may, but is not required to, check the List of Parties Excluded from Federal Procurement and Nonprocurement Programs.

8. Nothing contained in the foregoing shall be construed to require establishment of a system of records in order to render in good faith the certification required by this clause. The knowledge and information of a participant is not required to exceed that which is normally possessed by a prudent person in the ordinary course of business dealings.

9. Except for transactions authorized under paragraph 5 of these instructions, if a participant in a covered transaction knowingly enters into a lower tier covered transaction with a person who is proposed for debarment under 48 CFR part 9, subpart 9.4, suspended, debarred, ineligible, or voluntarily excluded from participant in this transaction, in addition to other remedies available to the Federal Government, the department or agency with which this transaction originated may pursue available remedies, including suspension and/or debarment.

Certification Regarding Debarment, Suspension, Ineligibility an Voluntary Exclusion—Lower Tier Covered Transactions

(1) The proposective lower tier participant certifies, by submission of this proposal, that neither it nor its principals is presently debarred, suspended, proposed for debarment, declared ineligible, or voluntarily excluded from participation in this transaction by any Federal department or agency.

(2) Where the prospective lower tier participant is unable to certify to any of the statements in this certification, such prospective participant shall attach an explanation to this proposal.

Attachment F

Certification Regarding Environmental Tobacco Smoke

Public Law 103227, Part C Environmental Tobacco Smoke, also known as the Pro Children Act of 1994 (Act), requires that smoking not be permitted in any portion of any indoor routinely owned or leased or contracted for by an entity and used routinely or regularly for provision of health, day care, education, or library services to children under the age of 18, if the services are funded by Federal programs either directly or through State or local governments, by Federal grant, contract, loan, or loan guarantee. The law does not apply to children's services provided in private residences, facilities funded solely by Medicare or Medicaid funds, and portions of facilities used for inpatient drug or alcohol treatment. Failure to comply with the provisions of the law may result in the imposition of a civil monetary penalty of up to $1000 per day and/or the imposition of an administrative compliance order on the responsible entity. By signing and submitting this application the applicant/grantee certifies that it will comply with the requirements of the Act.

The applicant/grantee further agrees that it will require the language of this certification be included in any subawards which contain provisions for the children's services and that all subgrantees shall certify accordingly.

Certification Regarding Lobbying

Certification for Contracts, Grants, Loans, and Cooperative Agreements

The undersigned certifies, to the best of his or her knowledge and belief, that:

(1) No Federal appropriated funds have been paid or will be paid, by or on behalf of the undersigned, to any person for influencing or attempting to influence an officer or employee of an agency, a Member of Congress, an officer or employee of Congress, or an employee of a Member of Congress in connection with the awarding of any Federal contract, the making of any grant, the making of any Federal loan, the entering into of any cooperative agreement, and the extension, continuation, renewal amendment, or modification of any Federal contract, grant, loan, or cooperative agreement.

(2) If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

(3) The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code, Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement in a prerequisite for making or entering into this transaction imposed by section 1352, title 31, U.S. Code. Any person who fails to file the required statement shall be subject to a civil penalty of not less than $10,000 and not more than $100,000 for each such failure.

Signature

Title

Organization

BILLING CODE 4184-01-C

Attachment G, Page 3

Instructions for Completion of SF-LLL, Disclosure of Lobbying Activities

This disclosure form shall be completed by the reporting entity, whether subawardee or prime Federal recipient, at the initiation or receipt of a covered Federal action, or a material change to a previous filing, pursuant to title 31 U.S.C. section 1352. The filing of a form is required for each payment or agreement to make payment to any lobbying entity for influencing or attempting to influence an officer or employee of any agency, a Member of Congress, an officer or employee of Congress, or an employee of a Member of Congress in connection with a covered Federal action. Complete all items that apply for both the initial filing and material change report. Refer to the implementing guidance published by the Office of Management and Budget for additional information.

1. Identify the type of covered Federal action for which lobbying activity is and/or has been secured to influence the outcome of a covered Federal action

2. Identify the status of the covered Federal action.

3. Identify the appropriate classification of this report. If this is a followup report caused by a material change to the information previously reported, enter the year and quarter in which the change occurred. Enter the date of the last previously submitted report by this reporting entity for this covered Federal action.

4. Enter the full name, address, city, State and zip code of the reporting entity. Include Congressional District, if known. Check the appropriate classification of the reporting entity that designates if it is, or expects to be, a prime or subaward recipient. Identify the tier of the subawardee, e.g., the first subawardee of the prime is the 1st tier. Subawards include but are not limited to subcontracts, subgrants and contract awards under grants.

5. If the organization filing the report in item 4 checks “Subawardee,” then enter the full name, address, city, State and zip code of the prime Federal recipient. Include Congressional District, if known.

6. Enter the name of the Federal agency making the award or loan commitment. Include at least one organizational level below agency name, if known. For example, Department of Transportation, United States Coast Guard.

7. Enter the Federal program name or description for the covered Federal action (item 1). If known, enter the full Catalog of Federal Domestic Assistance (CFDA) number for grants, cooperative agreements, loans, and loan commitments.

8. Enter the most appropriate Federal identifying number available for the Federal action identified in item 1 (e.g., Requests for Proposal (RFP) number; Invitation for Bid (IFB) number; grant announcement number; the contract, grant, or loan award number; the application/proposal control number assigned by the Federal agency). Include prefixes, e.g., “RFP-DE-90-001.”

9. For a covered Federal action where there has been an award or loan number commitment by the Federal agency, enter the Federal amount of the award/loan commitment for the prime entity identified in item 4 or 5.

10. (a) Enter the full name, address, city, State and zip code of the lobbying registrant under the Lobbying Disclosure Act of 1995 engaged by the reporting entity identified in item 4 to influence the covered Federal action.

(b) Enter the full names of the individual(s) performing services, and include full address if different from 10(a). Enter Last Name, First Name, and Middle Initial (MI).

11. The certifying official shall sign and date the form, print his/her name, title, and telephone number.

According to the Paperwork Reduction Act, as amended, no persons are required to respond to a collection of information unless it displays a valid OMB Control Number. The valid OMB control number for this information collection is OMB No. 0348-0046. Public reporting burden for this collection of information is estimated to average 10 minutes per response, including time for reviewing instructions, searching existing data sources, gathering and maintaining the data needed, and completing and reviewing the collection of information. Send comments regarding the burden estimate or any other aspect of this collection of information, including suggestions for reducing this burden, to the Office of Management and Budget, Paperwork Reduction Project (0348-0046), Washington, DC 20503.

State Single Point of Contact Listing Maintained by OMB

In accordance with Executive Order #12372, “Intergovernmental Review of Federal Programs,” Section 4, “the Office of Management and Budget (OMB) shall maintain a list of official State entities designated by the States to review and coordinate proposed financial assistance and direct Federal development.” This attached listing is the OFFICIAL OMB LISTING. OMB's point of contact for the SPOC list is Frederick J. Charney (202) 395-3993 or grants@omb.eop.gov. This listing is also published in the Catalogue of Federal Domestic Assistance biannually.

OMB State Single Point of Contact Listing

Arizona

Joni Saad

Arizona State Clearinghouse

3800 N. Central Avenue

Fourteenth Floor

Phoenix, Arizona 85012

Telephone: (602) 280-1315

FAX: (602) 280-8144

Arkansas

Mr. Tracy L. Copeland

Manager, State Clearinghouse

Office of Intergovernmental Services

Department of Finance and Administration

515 W. 7th St., Room 412

Little Rock, Arkansas 72203

Telephone: (501) 682-1074

FAX: (501) 682-5206

California

Grants Coordination

State Clearinghouse

Office of Planning & Research

1400 Tenth Street, Room 121

Sacramento, California 95814

Telephone: (916) 445-0613

FAX: (916) 323-3018

Delaware

Francine Booth

State Single Point of Contact

Executive Department

Office of the Budget

540 S. Dupont Highway

Suite 5

Dover, Delaware 19901

Telephone: (302) 739-3326

FAX: (302) 739-5661

District of Columbia

Charles Nichols

State Single Point of Contact

Office of Grants Mgmt. & Dev.

717 14th Street, N.W. Suite 1200

Washington, DC 20005

Telephone: (202) 727-1700 (direct)

(202) 727-6537 (secretary)

FAX: (202) 727-1617

Florida

Florida State Clearinghouse

Department of Community Affairs

2555 Shumard Oak Blvd.

Tallahassee, Florida 32399-2100

Telephone: (850) 922-5438

FAC: (850) 414-0479

Contact: Cherie Trainor

Georgia

Deborah Stephens

Coordinator

Georgia State Clearinghouse

270 Washington Street, S.W.—8th Floor

Atlanta, Georgia 30334

Telephone: (404) 656-3855

FAX: (404) 656-7901

Illinois

Virginia Bova, State Single Point of Contact

Illinois Department of Commerce and Community Affairs

James R. Thompson Center

100 West Randolph, Suite 3-400

Chicago, Illinois 60601

Telephone: (312) 814-6028

FAX (312) 814-1800

Indiana

Renee Miller

State Budget Agency

212 State House

Indianapolis, Indiana 46204-2796

Telephone: (317) 232-2971 (directline)

FAX: (317) 233-3323

Iowa

Steven R. McCann

Division for Community Assistance

Iowa Department of Economic Development

200 East Grand Avenue

Des Moines, Iowa 50309

Telephone: (515) 242-4719

FAX: (515) 242-4809

Kentucky

Kevin J. Goldsmith, Director

Sandra Brewer, Executive Secretary

Intergovernmental Affairs

Office of the Governor

700 Capitol Avenue

Frankfort, Kentucky 40601

Telephone: (502) 564-2611

FAX: (502) 564-0437

Maine

Joyce Benson

State Planning Office

184 State Street

38 State House Station

Augusta, Maine 04333

Telephone: (207) 287-3261

FAX: (207) 287-6489

Maryland

Linda Janey

Manager, Plan & Project Review

Maryland Office of Planning

301 W. Preston Street—Room 1104

Baltimore, Maryland 21201-2365

Staff Contact: Linda Janey

Telephone: (410) 767-4490

FAX: (410) 767-4480

Michigan

Richard Pfaff

Southeast Michigan Council of Governments

660 Plaza Drive—Suite 1900

Detroit, Michigan 48226

Telephone: (313) 961-4266

FAX: (313) 961-4869

Mississippi

Cathy Mallette

Clearinghouse Officer

Department of Finance and Administration

550 High Street

303 Walters Sillers Building

Jackson, Mississippi 39201-3087

Telephone: (601) 359-6762

FAX: (601) 359-6758

Missouri

Lois Pohl

Federal Assistance Clearinghouse

Office of Administration

P.O. Box 809

Jefferson Building, 9th Floor

Jefferson City, Missouri 65102

Telephone: (314) 751-4834

FAX: (314) 751-7819

Nevada

Department of Administration

State Clearinghouse

209 E. Musser Street, Room 220

Carson City, Nevada 89710

Telephone: (702) 687-4065

FAX: (702) 687-3983

Contact: Heather Elliot

(702) 687-6367

New Hampshire

Jeffrey H. Taylor

Director, New Hampshire Office of State Planning

Attn: Intergovermental Review Process

Mike Blake

2½ Beacon Street

Concord, New Hampshire 03301

Telephone: (603) 271-1728

FAX: (603) 271-1728

New Mexico

Nick Mandell

Local Government Division

Room 201 Bataan Memorial Building

Santa Fe, New Mexico 87503

Telephone: (505) 827-3640

Fax: (505) 827-4984

North Carolina

Jeanette Furney

North Carolina Department of Administration

116 West Jones Street—Suite 5106

Raleigh, North Carolina 27603-8003

Telephone: (919) 733-7232

FAX: (919) 733-9571

North Dakota

North Dakota Single Point of Contact

Office of Intergovernmental Assistance

600 East Boulevard Avenue

Bismarck, North Dakota 58505-0170

Telephone: (701) 224-2094

FAX: (701) 224-2308

Rhode Island

Kevin Nelson

Review Coordinator

Department of Administration

Division of Planning

One Capitol Hill, 4th Floor

Providence, Rhode Island 02908-5870

Telephone: (401) 277-2656

FAX: (401) 277-2083

South Carolina

Omeagia Burgess

State Single Point of Contact

Budget and Control Board

Office of State Budget

1122 Ladies Street—12th Floor

Columbia, South Carolina 29201

Telephone: (803) 734-0494

FAX: (803) 734-0645

Texas

Tom Adams

Governors Office

Director, Intergovernmental Coordination

P.O. Box 12428

Austin, Texas 78711

Telephone: (512) 463-1771

FAX: (512) 936-2681

Utah

Carolyn Wright

Utah State Clearinghouse

Office of Planning and Budget

Room 116 State Capitol

Salt Lake City, Utah 84114

Telephone: (801) 538-1027

FAX: (801) 538-1547

West Virginia

Fred Cutlip, Director

Community Development Division

W. Virginia Development Office

Building #6, Room 553

Charleston, West Virginia 25305

Telephone: (304) 558-4010

FAX: (304) 558-3248

Wisconsin

Jeff Smith

Section Chief, Federal/State Relations

Wisconsin Department of Administration

101 East Wilson Street—6th Floor

P.O. Box 7868

Madison, Wisconsin 53707

Telephone: (608) 266-0267

FAX: (608) 267-6931

Wyoming

Sandy Ross

State Single Point of Contact

Department of Administration and Information

2001 Capitol Avenue, Room 214

Cheyenne, WY 82002

Telephone: (307) 777-5492

FAX: (307) 777-3696

[FR Doc. 02-17520 Filed 7-11-02; 8:45 am]

BILLING CODE 4184-01-P